DEPARTMENT OF LABOR

Employment and Training Administration

[TA-W-55,676]

The Longaberger Company, Hartville, OH; Notice of Termination of Investigation

Pursuant to section 221 of the Trade Act of 1974, an investigation was initiated on September 23, 2004, in response to a petition filed on behalf of workers at The Longaberger Company, Hartville, Ohio.

The petitioners have requested that the petition be withdrawn. Consequently, the investigation has been terminated.

Signed in Washington, DC, this 6th day of October, 2004.
Elliott S. Kushner,
Certifying Officer, Division of Trade Adjustment Assistance.

[FR Doc. E4-2850 Filed 10-25-04; 8:45 am]

BILLING CODE 4510-30-P